DEPARTMENT OF TRANSPORTATION

Maritime Administration

Agency Information Collection Activity Under OMB Review; Reports, Forms and Recordkeeping Requirements

AGENCY: Maritime Administration, DOT.

ACTION: Notice and request for comments.

SUMMARY: In compliance with the Paperwork Reduction Act of 1995 (44 U.S.C. 3501 etseq.), this notice announces that the Information Collection abstracted below has been forwarded to the Office of Management and Budget (OMB) for review and approval. The nature of the information collection is described as well as its expected burden. The Federal Register Notice with a 60-day comment period soliciting comments on the following collection of information was published on March 26, 2013. No comments were received.

DATES: Comments must be submitted on or before July 11, 2013.

FOR FURTHER INFORMATION CONTACT: Bill Krufeh, Maritime Administration, 1200 New Jersey Avenue SE., Washington, DC 20590. Telephone: 202-366-2318; or email bill.krufehs@dot.gov. Copies of this collection also can be obtained from that office.

SUPPLEMENTARY INFORMATION: Maritime Administration (MARAD)

Title: Application and Reporting Requirements for Participation in the Maritime Security Program.

OMB Control Number: 2133-0525.

Type of Request: Extension of currently approved collection.

Affected Public: Vessel Operators.

Form (s): MA-172.

Abstract: The Maritime Security Act of 2003 provides for the enrollment of qualified vessels in the Maritime Security Program Fleet. Applications and amendments are used to select vessels for the fleet. Periodic reporting is used to monitor adherence of contractors to program parameters.

Expiration Date of Approval: Three years from date of approval by the Office of Management and Budget.

Annual Estimated Burden Hours: 210 hours.

Addressee: Send comments to the Office of Information and Regulatory Affairs, Office of Management and Budget, 725 17th Street NW., Washington, DC 20503, Attention: MARAD Desk Officer. Alternatively, comments may be sent via email to the Office of Information and Regulatory Affairs (OIRA), Office of Management and Budget, at the following address: oira.submissions@omb.eop.gov.

Comments Are Invited On: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

(Authority: 49 CFR 1.93)

Issued in Washington, DC on June 6, 2013.
Julie P. Agarwal,
Secretary, Maritime Administration.

[FR Doc. 2013-13844 Filed 6-10-13; 8:45 am]

BILLING CODE 4910-81-P